DEPARTMENT OF DEFENSE

Office of the Secretary

[Docket ID: DOD-2016-OS-0058]

Submission for OMB Review; Comment Request

ACTION: Notice.

SUMMARY: The Department of Defense has submitted to OMB for clearance, the following proposal for collection of information under the provisions of the Paperwork Reduction Act.

DATES: Consideration will be given to all comments received by February 9, 2017.

FOR FURTHER INFORMATION CONTACT: Fred Licari, 571-372-0493.

SUPPLEMENTARY INFORMATION:

Title, Associated Form and OMB Number: Improving Caregiver Outcomes through Structured Support Via Military Caregiver Peer Forums; OMB Control Number 0704-XXXX.

Type of Request: New.

Number of Respondents: 90.

Responses per Respondent: 1.

Annual Responses: 90.

Average Burden per Response: 1 hour.

Annual Burden Hours: 90.

Needs and Uses: The information collection requirement is necessary to assess how participants are using the Military Caregiver PEER (Personalized Experiences, Engagement and Resources) Forums, how participating in the PEER Forums benefits them, and the role that PEER Forums play in the landscape of social support services available to caregivers. Military Caregiver PEER Forums are located on military bases across the country where caregivers can convene, converse among their peers, share resources and best practices, and provide support for the challenges they face. The results will be used to determine how the PEER Forums are currently improving and might better continue to improve caregiver well-being by reducing caregiver burden and addressing caregiver isolation. DoD will use the information gathered by this project to assess the implementation of PEER Forums and implement improvements, if needed. A complementary objective is to use the information gathered by this project to provide DoD with a framework for ongoing monitoring and evaluation of PEER Forums.

Affected Public: Individuals or Households.

Frequency: On occasion.

Respondent's Obligation: Voluntary.

OMB Desk Officer: Ms. Jasmeet Seehra.

Comments and recommendations on the proposed information collection should be emailed to Ms. Jasmeet Seehra, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

Dod Clearance Officer: Mr. Frederick Licari.

Written requests for copies of the information collection proposal should be sent to Mr. Licari at WHS/ESD Directives Division, 4800 Mark Center Drive, East Tower, Suite 03F09, Alexandria, VA 22350-3100.

Dated: January 5, 2017.
Aaron Siegel,
Alternate OSD Federal Register Liaison Officer, Department of Defense.

[FR Doc. 2017-00267 Filed 1-9-17; 8:45 am]

BILLING CODE 5001-06-P